DEPARTMENT OF HOUSING AND URBAN DEVELOPMENT

[Docket No. FR-4837-D-34]

Consolidated Delegation of Authority for Community Planning and Development

AGENCY: Office of the Secretary, HUD.

ACTION: Notice of delegation of authority.

SUMMARY: This notice consolidates and updates delegations of authority from the Secretary to the Assistant Secretary for Community Planning and Development and the General Deputy Assistant Secretary for Community Planning and Development.

EFFECTIVE DATE: September 9, 2003.

FOR FURTHER INFORMATION CONTACT: Linda Grant, Management Division, Office of Community Planning and Development, Room 7232, Department of Housing and Urban Development, 451 Seventh Street, SW, Washington DC 20410-7000; (202) 708-2087. (This is not a toll-free number.) For those needing assistance, this number may be accessed through TTY by calling the toll-free Federal Information Relay Service number at 1-800-877-8339.

SUPPLEMENTARY INFORMATION: This notice consolidates into one notice the authority delegated by the Secretary to the Assistant Secretary for Community Planning and Development and the General Deputy Assistant Secretary for Community Planning and Development, and supersedes all prior delegations of authority from the Secretary to the Assistant Secretary and General Deputy Assistant Secretary for Community Planning and Development.

Section A. Authority

Except as provided in Section B, the Secretary of HUD delegates to the Assistant Secretary for Community Planning and Development and the General Deputy Assistant Secretary for Community Planning and Development the authority of the Secretary with respect to the programs and matters listed in this Section A. Only the Assistant Secretary for Community Planning and Development is delegated the authority to issue and waive regulations.

1. AIDS Housing Opportunity Act (Pub. L. 101-625, Title VIII, Subtitle D, 104 Stat. 4375, approved November 28, 1990, codified at 42 U.S.C. 12901-12912);

2. Base Closure, the Base Closure Community Redevelopment and Homeless Assistance Act of 1994 (Pub. L. 103-421, 108 Stat. 4346, approved October 5, 1994, codified at 10 U.S.C. 2687 note);

3. Capacity Building for Community Development and Affordable Housing Grants;

4. Comprehensive Housing Affordability Strategies (CHAS), Title I of the Cranston-Gonzalez National Affordable Housing Act (42 U.S.C. 12701 et seq.);

5. Economic Development Initiative grants, as provided for in annual HUD appropriations acts (e.g., Consolidated Appropriations Resolution, Fiscal Year 2003, Pub. L. 108-7, 117 Stat. 11, approved February 20, 2003);

6. Empowerment Zone Program under Title XIII, Subchapter C, Part J of the Omnibus Budget Reconciliation Act (26 U.S.C. 1391 et seq.);

7. Enterprise Zone Program under Title VII of the Housing and Community Development Act of 1987 (42 U.S.C. 11501 et seq.);

8. The HOME Investment Partnerships Act, Pub. L. 101-625, Title II, 104 Stat. 4079, approved November 28, 1990, codified at 42 U.S.C. 12721 et seq.;

9. HOPE for Homeownership of Single-family Housing Program (HOPE 3), Title IV, Subtitle C of the Cranston-Gonzalez National Affordable Housing Act (42 U.S.C.12891);

10. The Loan Guarantee Recovery Program under the Church Arson Prevention Act of 1996 (Pub. L. 104-155, 110 Stat. 1392, approved July 9, 1996, 18 U.S.C. 241 note);

11. Section 4 of the HUD Demonstration Act of 1993 (Pub. L. 103-120, 42 U.S.C. 9816 note);

12. Neighborhood Initiatives grants specifically designated in annual HUD appropriations acts (e.g., Consolidated Appropriations Resolution, Fiscal Year 2003, Pub. L. 108-7, 117 Stat. 11, approved February 20, 2003);

13. The Rural Housing and Economic Development grants specifically designated originally in the Fiscal Year 1998 HUD Appropriations Act (Pub. L. 105-65, 111 Stat. 1344, approved October 27, 1997), and subsequent annual HUD appropriations acts;

14. Self-Help Housing Opportunity Program (SHOP) under section 11 of the Housing Opportunity Program Extension Act of 1996 (Pub. L. 104-120, 110 Stat. 834, approved March 28, 1996, codified at 42 U.S.C. 12805 note);

15. Title I of the Housing and Community Development Act of 1974 (42 U.S.C. 5301 et seq.);

16. Title IV and Title V of the McKinney-Vento Homeless Assistance Act (42 U.S.C. 11301 et seq.);

17. The Uniform Relocation Assistance and Real Property Acquisition Policies Act of 1970 (42 U.S.C. 4601);

18. Youthbuild Program, Title IV, Subtitle D of the Cranston-Gonzalez National Affordable Housing Act (42 U.S.C. 12899 et seq.);

19. Certain Community Planning and Development programs are no longer authorized for funding but administration of the programs must continue until all Department responsibilities are discharged and finally terminated.

These programs, as of April 2003, include the following:

a. Slum Clearance and Urban Renewal Program under Title I of the Housing Act of 1949 (42 U.S.C. 1450-1468);

b. Area-wide grants, Inequities grants, Disaster grants and the authority to concur in final approval actions regarding Innovative grants under section 107 of Title I of the Housing and Community Development Act of 1974 (42 U.S.C. 8121);

c. Rental Rehabilitation Program under section 17 of the United States Housing Act of 1937 (42 U.S.C. 1437(o));

d. Section 312 Rehabilitation Loan Program under section 312 of the Housing Act of 1964 (42 U.S.C. 1452(b));

e. Urban Homesteading Program under section 810 of the Housing and Community Development Act of 1974 (12 U.S.C. 1706(e));

f. Innovative Homeless Initiatives Demonstration Program under the HUD Demonstration Act of 1993 (Pub. L. 103-120, 107 Stat. 1144, approved October 27, 1993, codified at 42 U.S.C. 9816 note).

Section B. Authority Excepted

There is excepted from the authority delegated under Section A:

1. The power to sue and be sued;

2. Under Title I of the Housing and Community Development Act of 1974 (42 U.S.C. 5301 et seq.):

a. The power to administer the Indian Community Development Block Grant program, the authority for which was delegated to the Assistant Secretary for Public and Indian Housing on March 1, 1994 (59 FR 9764);

b. The power to administer the section 107 programs, the authority for which was delegated to the Assistant Secretary for Policy Development and Research;

c. The power to issue obligations for purchase by the Secretary of the Treasury under section 108(g) of the Housing and Community Development Act (42 U.S.C. 5308); and

d. The power and authority of the Secretary with respect to nondiscrimination under section 109 may be exercised only with the advice of the Assistant Secretary for Fair Housing and Equal Opportunity;

3. Under the HOME Investment Partnerships Act (Pub. L. 101-625, Title II, 104 Stat. 4079, approved November 28, 1990, codified at 42 U.S.C. 12721 et seq.), grants to Indian tribes, for which the authority has been delegated to the Assistant Secretary for Public and Indian Housing.

4. Under the section 312 Rehabilitation Loan Program under section 312 of the Housing Act of 1964 (42 U.S.C. 1452(b)), the property disposition and related authority specifically delegated to the Assistant Secretary for Housing;

5. For programs noted in Section A-19 of this delegation, no longer authorized for funding:

a. The power to establish interest rates; and

b. The power to issue notes or obligations for purchase by the Secretary of the Treasury.

Section C. Authority To Redelegate

The Assistant Secretary of Community Planning and Development is authorized to redelegate to employees of the Department any of the authority delegated under Section A, excluding the authority excepted under Section B and excluding the authority to issue or waive rules and regulations.

Section D. Delegations Superseded

This delegation supersedes the following:

1. Delegation of Authority from the Secretary to the Assistant Secretary and Deputy Assistant Secretary for Community Development, published on March 16, 1971 (36 FR 5004);

2. Delegation of Authority from the Secretary to the Assistant Secretary and Deputy Assistant Secretary for Community Planning and Development, published on March 16, 1972 (37 FR 5005);

3. Delegation of Authority from the Secretary to the Assistant Secretary for Community Planning and Development, published on March 27, 1973 (38 FR 8011);

4. Delegation of Authority from the Secretary to the Assistant Secretary and the Deputy Assistant Secretary for Community Planning and Development, published on February 5, 1975 (40 FR 5385), August 25, 1975 (40 FR 37074), November 25, 1975 (40 FR 54606), April 12, 1976 (41 FR 15359), and September 8, 1977 (42 FR 45037);

5. Consolidated Delegation of Authority for Community Planning and Development, published on October 25, 1983 (48 FR 49384);

6. Delegation of Authority from the Secretary to the Assistant Secretary and General Deputy Assistant Secretary for Community Planning and Development with respect to the Rental Rehabilitation Program, published on July 27, 1984 (49 FR 30246);

7. Delegation of Authority from the Secretary to the Assistant Secretary and General Deputy Assistant Secretary for Community Planning and Development with respect to the Emergency Shelter Grants Program, published on December 17, 1986 (51 FR 45288);

8. Delegation of Authority from the Secretary to the Assistant Secretary and General Deputy Assistant Secretary for Community Planning and Development with respect to the Emergency Shelter Grants Program, published on September 4, 1987 (52 FR 33793);

9. Delegation of Authority from the Assistant Secretary to the Assistant Secretary for Community Planning and Development with respect to HUD Programs for the Homeless, published on October 2, 1989 (54 FR 40527);

10. Delegation of Authority from the Secretary to the Assistant Secretary for Community Planning and Development for the HOME Investment Partnerships (HOME) Program, published on November 4, 1991 (56 FR 56416);

11. Delegation of Authority from the Secretary to the Assistant Secretary for Community Planning and Development for the Shelter Plus Care Program, published on March 20, 1992 (57 FR 9731);

12. Delegation of Authority from the Secretary to the Assistant Secretary and Deputy Assistant Secretary for Community Planning and Development for the HOPE for Homeownership of Single Family Homes Program (HOPE 3), published on October 9, 1992 (57 FR 46568);

13. Delegation of Authority from the Secretary to the Assistant Secretary for Community Planning and Development for the Review and Approval of Comprehensive Housing Affordability Strategies, published on November 20, 1992 (57 FR 54826);

14. Delegation of Authority from the Secretary to the Assistant Secretary for Community Planning and Development for the Youthbuild Program, published on August 31, 1993 (58 FR 45910);

15. Delegation of Authority from the Secretary to the Assistant Secretary for Community Planning and Development Concerning the Base Closure Community Redevelopment and Assistance Act of 1994, published on May 22, 1996 (61 FR 25685);

16. Delegation of Authority from the Secretary to the Assistant Secretary for Community Planning and Development pursuant to section 11 of the Housing Opportunity Program Extension Act of 1996, published on August 13, 1996 (61 FR 42050);

17. Delegation of Authority from the Secretary to the Assistant Secretary for Community Planning and Development for the Loan Guarantee Recovery Fund, published on October 17, 1996 (61 FR 54211);

18. Delegation of Authority from the Secretary to the Assistant Secretary and General Deputy Assistant Secretary for Community Planning and Development with respect to Enterprise Zone Development, published on June 3, 1998 (53 FR 20563); and

19. Delegation of Authority from the Secretary to the Assistant Secretary for Community Planning and Development with respect to Rural Housing and Economic Development Grants, published on May 12, 1999 (64 FR 25512).

Authority: Section 7(d), Department of Housing and Urban Development Act, 42 U.S.C. 3535(d).

Dated: September 9, 2003.
Mel Martinez,
Secretary.

[FR Doc. 03-23513 Filed 9-15-03; 8:45 am]

BILLING CODE 4210-32-P